DEPARTMENT OF ENERGY

Federal Energy Regulatory Commission

[Docket No. RP01-536-000]

Florida Gas Transmission Company; Notice of Proposed Changes in FERC Gas Tariff

September 7, 2001.

Take notice that on August 31, 2001, Florida Gas Transmission Company (“FGT”) tendered for filing as part of its FERC Gas Tariff, Third Revised Volume No. 1 (“Tariff”), the tariff sheets listed in Appendix A to the filing, to become effective October 1, 2001.

FGT states that the purpose of the instant filing is to reflect the electronic contracting and capacity release capability that will be implemented on the FGT system on October 1, 2001. Concurrent with these tariff changes FGT is implementing a new contracting and capacity release system that will, among other things, enable FGT and its shippers to comply with GISB timelines and the Commission's policies on contracting. FGT anticipates that this electronic contacting capability will replace current facsimile and mail methods for exchange of contractual documents. FGT is currently working with its shippers to transition to the new system and will continue to accept written requests, contracts and amendments during the transition period. FGT states that the proposed tariff modifications permit shippers to request service and execute service agreements electronically on FGT's Web site located at www.fgt.enron.com. The instant filing also includes minor corrections, as well as changes to update or clarify certain provisions in conformance with the electronic processes provided for herein.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance).

Comments, protests and interventions may be filed electronically via the Internet in lieu of paper. See, 18 CFR 385.2001(a)(1)(iii) and the instructions on the Commission's Web site under the “e-Filing” link.

Linwood A. Watson, Jr.,
Acting Secretary.

[FR Doc. 01-23110 Filed 9-14-01; 8:45 am]

BILLING CODE 6717-01-P